ENVIRONMENTAL PROTECTION AGENCY

40 CFR Parts 148, 261, 268, 271, and 302

[RCRA-2003-0001; FRL-7924-9]

RIN 2050-AD80

Hazardous Waste Management System; Identification and Listing of Hazardous Waste; Dyes and/or Pigments Production Wastes; Land Disposal Restrictions for Newly Identified Wastes; CERCLA Hazardous Substance Designation and Reportable Quantities; Designation of Five Chemicals as Appendix VIII Constituents; Addition of Four Chemicals to the Treatment Standards of F039 and the Universal Treatment Standards; Correction

AGENCY: EPA.

ACTION: Final rule; correction.

SUMMARY: EPA issued a final rule in the Federal Register on February 24, 2005, listing as hazardous under the Resource Conservation and Recovery Act (RCRA) nonwastewaters generated from the production of certain dyes, pigments, and FD&C colorants. This document corrects typographical errors in the regulatory text and notes other typographical errors in the preamble.

DATES: This correction is effective on August 23, 2005.

ADDRESSES: Follow the detailed instructions as provided under ADDRESSES in the Federal Register document of February 24, 2005.

FOR FURTHER INFORMATION CONTACT: Robert Kayser, Hazardous Waste Identification Division, Office of Solid Waste (5304W), Environmental Protection Agency, 1200 Pennsylvania Avenue, NW., Washington, DC 20460; telephone number: (703) 308-7304; fax number: (703) 308-0514; e-mail address: kayser.robert@epa.gov. For general information on the final rule, review our Web site at http://www.epa.gov/epaoswer/hazwaste/id/dyes/index.htm.

SUPPLEMENTARY INFORMATION:

I. General Information

A. Does This Action Apply to Me?

The Agency included in the final rule of February 24, 2005, a list of those who may be potentially affected by this action. If you have questions regarding the applicability of this action to a particular entity, consult the person listed under the FOR FURTHER INFORMATION CONTACT.

B. How Can I Access Electronic Copies of This Document and Other Related Information?

In addition to using the EDOCKET at http://www.epa.gov/edocket/, you may access this Federal Register document electronically through the EPA Internet under the Federal Register listings at http://www.epa.gov/fedrgstr/. A frequently updated electronic version of 40 CFR part 261 is available at e-CFR Beta Site at http://www.gpoaccess.gov/ecfr/.

II. What Does This Correction Do?

This Action corrects two typographical errors in the final rule, both of which are the same but occur in different paragraphs, published in the Federal Register of February 24, 2005 (see FR Doc. 05-3454; 70 FR 9138-9180) (FRL-7875-8). The first error appears at 70 FR 9176 in the text of § 261.32(d)(2). At the end of the first sentence, the phrase “listing levels of this section” is misplaced and is in part repetitive. The phrase “listing levels of” should immediately precede “paragraph (c)” in that sentence and the last usage of the phrase “this section” at the end of the sentence should be deleted. Thus, the first sentence of § 261.32(d)(2) should conclude as follows: “to conclude that annual mass loadings for the K181 constituents are below the listing levels of paragraph (c) of this section.”

The second error also appears at 70 FR 9176 in the text of § 261.32(d)(3)(iv)(B). At the end of the sentence, the phrase “listing levels of this section” is misplaced and is in part repetitive. The phrase “listing levels of” should immediately precede “paragraph (c)” in the sentence and the last usage of the phrase “this section” at the end of the sentence should be deleted. Thus, § 261.32(d)(3)(iv)(B) should conclude as follows: “to support any claim that the constituent mass loadings are below the listing levels of paragraph (c) of this section.”

We also note that the preamble to the final rule contains several erroneous regulatory citations. The first one appears at 70 FR 9145, in the second column, in the first paragraph under the heading “1. Toluene-2,4-diamine,” line three. The correct regulatory citation is to “§ 261.32(c)(1)” and not “§ 261.31(c)(1)”. The second one appears in line six of the same paragraph. The correct citation is to “§ 261.32(c)(2)” and not to “§ (c)(2)”. The last one appears at 70 FR 9145, in the third column, in line six. The correct citation is to “§ 261.32(c)(1)” and not “§ 261.31(c)(1)'.

III. Why Is This Correction Issued as a Final Rule?

Section 553 of the Administrative Procedure Act (APA), 5 U.S.C. 553(b)(B), provides that, when an Agency for good cause finds that notice and public procedures are impracticable, unnecessary or contrary to the public interest, the agency may issue a final rule without providing notice and an opportunity for public comment. EPA has determined that there is good cause for making today's correction final without prior proposal and opportunity for comment, because EPA is merely correcting language to allow the affected rule sections to make sense grammatically. Therefore, EPA finds that additional public comment is not necessary under 5 U.S.C. 553(b)(B).

IV. Do Any of the Statutory and Executive Order Reviews Apply to This Action?

This final rule implements an amendment to the Code of Federal Regulations that has no substantive impact on the underlying regulations, and it does not otherwise impose or amend any requirements. As such, the Office of Management and Budget (OMB) has determined that such amendments are not a “significant regulatory action” subject to review by OMB under Executive Order 12866, entitled Regulatory Planning and Review (58 FR 51735, October 4, 1993). Because this rule has been exempted from review under Executive Order 12866, this rule is not subject to Executive Order 13211, entitled Actions Concerning Regulations That Significantly Affect Energy Supply, Distribution, or Use (66 FR 28355, May 22, 2001). This final rule does not contain any information collections subject to OMB approval under the Paperwork Reduction Act (PRA), 44 U.S.C. 3501 et seq., or impose any enforceable duty or contain any unfunded mandate as described under Title II of the Unfunded Mandates Reform Act of 1995 (UMRA) (Public Law 104-4). This action does not require any special considerations under Executive Order 12898, entitled Federal Actions to Address Environmental Justice in Minority Populations and Low-Income Populations (59 FR 7629, February 16, 1994), or OMB review or any Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Since the action does not require the issuance of a proposed rule, the requirements of the Regulatory Flexibility Act (RFA) (5 U.S.C. 601 et seq.) do not apply. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This action does not alter the relationships or distribution of power and responsibilities. For similar reasons, the Agency has determined that this rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.” This rule will not have substantial direct effects on tribal governments, on the relationship between the Federal government and Indian tribes, or on the distribution of power and responsibilities between the Federal government and Indian tribes, as specified in Executive Order 13175. Thus, Executive Order 13175 does not apply to this rule.

V. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 261

Environmental protection, Hazardous materials, Waste treatment and disposal, Recycling.

Dated: June 10, 2005.
Stephen L. Johnson,
Administrator.

For the reasons set out in the preamble, title 40, chapter I of the Code of Federal Regulations is amended as follows:

PART 261—[CORRECTED]

1. The authority citation for part 261 continues to read as follows:

Authority: 42 U.S.C. 6905, 6912(a), 6921, 6922, 6924(y), and 6938.

2. Section 261.32 is amended by revising the introductory text to paragraph (d)(2) and paragraph (d)(3)(iv)(B) to read as follows:

§ 261.32 Hazardous wastes from specific sources.

* * * * *

(d) * * *

(2) Determination for generated quantities of 1,000 MT/yr or less for wastes that contain K181 constituents. If the total annual quantity of dyes and/or pigment nonwastewaters generated is 1,000 metric tons or less, the generator can use knowledge of the wastes (e.g., knowledge of constituents in wastes based on prior analytical data and/or information about raw materials used, production processes used, and reaction and degradation products formed) to conclude that annual mass loadings for the K181 constituents are below the listing levels of paragraph (c) of this section. To make this determination, the generator must:

* * * * *

(3) * * *

(iv) * * *

(B) The analytical measurements must be sufficiently sensitive, accurate and precise to support any claim that the constituent mass loadings are below the listing levels of paragraph (c) of this section.

* * * * *

[FR Doc. 05-11914 Filed 6-15-05; 8:45 am]

BILLING CODE 6560-50-P